SECURITIES AND EXCHANGE COMMISSION

[Release No. IC-25921]

Notice of Applications for Deregistration Under Section 8(f) of the Investment Company Act of 1940

January 31, 2003.

The following is a notice of applications for deregistration under section 8(f) of the Investment Company Act of 1940 for the month of January, 2003. A copy of each application may be obtained for a fee at the SEC's Public Reference Branch, 450 Fifth St., NW., Washington, DC 20549-0102 (tel. (202) 942-8090). An order granting each application will be issued unless the SEC orders a hearing. Interested persons may request a hearing on any application by writing to the SEC's Secretary at the address below and serving the relevant applicant with a copy of the request, personally or by mail. Hearing requests should be received by the SEC by 5:30 p.m. on February 25, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

North American Funds [File No. 811-5797]

Summary: Applicant seeks an order declaring that it has ceased to be an investment company. On November 14, 2001, applicant transferred its assets to SunAmerica Strategic Investment Series, Inc., SunAmerica Style Select Series, Inc., SunAmerica Income Funds, SunAmerica Equity Funds, and SunAmerica Money Market Funds, Inc., based on net asset value. Expenses of $5,808,000 incurred in connection with the reorganization were paid by SunAmerica Asset Management Corp., investment adviser to the acquiring funds.

Filing Dates: The application was filed on October 25, 2002, and amended on January 8, 2003, and January 29, 2003.

Applicant's Address: 286 Congress Street, Boston, MA 02210.

Kala Investment Corp. [File No. 811-3311]

Summary: Applicant, a closed-end investment company, seeks an order declaring that it has ceased to be an investment company. On October 29, 2001, applicant transferred its assets to Pitcairn Tax-Exempt Bond Fund, based on net asset value. Expenses of $46,221 incurred in connection with the reorganization were paid by applicant.

Filing Date: The application was filed on January 24, 2003.

Applicant's Address: 225 West 34th St., New York, NY 10122.

ATC Funds, Inc. [File No. 811-8617]

Summary: Applicant seeks an order declaring that it has ceased to be an investment company. On November 27, 2002, applicant made a liquidating distribution to its shareholders, based on net asset value. Expenses of $22,440 incurred in connection with the liquidation were paid by Avalon Trust Company, applicant's investment adviser.

Filing Date: The application was filed on January 17, 2003.

Applicant's Address: 125 Lincoln Ave., Suite 100, Santa Fe, NM 87501-2052.

One Fund, Inc. [File No. 811-6675]

Summary: Applicant seeks an order declaring that it has ceased to be an investment company. On November 15, 2002, applicant made a liquidating distribution to its shareholders based on net asset value. Expenses of approximately $5,000 incurred in connection with the liquidation were paid by applicant.

Filing Dates: The application was filed on January 15, 2003, and amended on January 28, 2003.

Applicant's Address: One Financial Way, Cincinnati, OH 45242.

East West Securities Company, Inc. [File No. 811-10029]

Summary: Applicant, a closed-end investment company, seeks an order declaring that it has ceased to be an investment company. On December 30, 2002, applicant made a liquidating distribution to its shareholder, based on net asset value. Expenses of $3,000 incurred in connection with the liquidation were paid by East West Bank.

Filing Date: The application was filed on January 8, 2003.

Applicant's Address: 415 Huntington Dr., San Marino, CA 91108.

Snoqualmie Asset Fund, Inc. [File No. 811-10087]

Summary: Applicant, a closed-end investment company, seeks an order declaring that it has ceased to be an investment company. On December 31, 2002, applicant made a liquidating distribution to its shareholders, based on net asset value. Expenses of $14,000 incurred in connection with the liquidation were paid by Marion Holdings, Inc.

Filing Date: The application was filed on January 2, 2003.

Applicant's Address: 1201 Third Ave., WMT 1706, Seattle, WA 98101.

Broadway Street Pooled Trust Preferred Fund A [File No. 811-9771]

Summary: Applicant, a closed-end investment company, seeks and order declaring that it has ceased to be an investment company. Applicant has never made a public offering of its securities and does not propose to make a public offering or engage in business of any kind.

Filing Dates: The application was filed on November 26, 2002, and amended on December 20, 2002.

Applicant's Address: 501 North Broadway, St. Louis, MO 63102.

For the Commission, by the Division of Investment Management, pursuant to delegated authority.
Margaret H. McFarland,
Deputy Secretary.

[FR Doc. 03-2830 Filed 2-5-03; 8:45 am]

BILLING CODE 8010-01-P